DEPARTMENT OF ENERGY

Federal Energy Regulatory Commission

Combined Notice of Filings

Take notice that the Commission has received the following Natural Gas Pipeline Rate and Refund Report filings:

Filings Instituting Proceedings

Docket Numbers: RP16-44-000.

Applicants: Natural Gas Pipeline Company of America.

Description: Section 4(d) Rate Filing: J. Aron & Company Negotiated Rate to be effective 11/1/2015.

Filed Date: 10/13/15.

Accession Number: 20151013-5697.

Comments Due: 5 p.m. ET 10/26/15.

Docket Numbers: RP16-45-000.

Applicants: Gulf South Pipeline Company, LP.

Description: Section 4(d) Rate Filing: Cap Rel Neg Rate Agmt (Encana 37663 to BP 45313) to be effective 10/1/2015.

Filed Date: 10/14/15.

Accession Number: 20151014-5055.

Comments Due: 5 p.m. ET 10/26/15.

Docket Numbers: RP16-46-000.

Applicants: Gulf South Pipeline Company, LP.

Description: Section 4(d) Rate Filing: Cap Rel Neg Rate Agmt (QEP 37657 to BP 45322) to be effective 10/1/2015.

Filed Date: 10/14/15.

Accession Number: 20151014-5056.

Comments Due: 5 p.m. ET 10/26/15.

Docket Numbers: RP16-47-000.

Applicants: Gulf South Pipeline Company, LP.

Description: Section 4(d) Rate Filing: Cap Rel Neg Rate Agmt (FPL 41618 to Tenaska 45219) to be effective 10/1/2015.

Filed Date: 10/14/15.

Accession Number: 20151014-5057.

Comments Due: 5 p.m. ET 10/26/15.

Docket Numbers: RP16-48-000.

Applicants: Gulf South Pipeline Company, LP.

Description: Section 4(d) Rate Filing: Cap Rel Neg Rate Agmt (Atlanta 8438 to various eff 10-1-15) to be effective 10/1/2015.

Filed Date: 10/14/15.

Accession Number: 20151014-5058.

Comments Due: 5 p.m. ET 10/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2015.
Nathaniel J. Davis, Sr.,
Deputy Secretary.

[FR Doc. 2015-26713 Filed 10-20-15; 8:45 am]

BILLING CODE 6717-01-P